ENVIRONMENTAL PROTECTION AGENCY

[ER-FRL-6671-9]

Environmental Impact Statements And Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050362, ERP No. D-NRC-E05101-NC, Generic—Brunswick Stream Electric Plant, Units 1 and 2 (TAC Nos. MC4641 and MC4642) License Renewal of Nuclear Plants, Supplement 25 to NUREG-1437, Brunswick County, NC.

Summary: EPA expressed environmental concerns about radiological monitoring of all plant effluents, and appropriate storage and ultimate disposition of radioactive waste generated on-site during the license renewal period, as well as continuing measures to limit bioentrainment and other impacts to aquatic species from surface water withdrawals and discharges. Rating EC1.

EIS No. 20050396, ERP No. D-BIA-K60036-CA, Elk Valley Rancheria Martin Ranch 203.5-Acre Fee-to-Trust Transfer and Casino/Resort Project, Implementation, Federal Trust, Elk Valley Rancheria Tribe, Crescent City, Del Norte County, CA.

Summary: EPA expressed concerns about impacts to wetlands and uncertainties in the stormwater management system. EPA recommended the final EIS include an adaptive management plan for the vegetated swale system and clarify the need for a Clean Water Act Section 404 permit for road crossings. Rating EC2.

EIS No. 20050425, ERP No. D-BLM-K65292-CA, Southern Diablo Mountain Range and Central Coast of California Resource Management Plan, Several Counties, CA.

Summary: EPA expressed concerns and recommended additional measures be taken to reduce impacts to human health, watershed and vegetation resources in the planning area. Rating EC2.

EIS No. 20050435, ERP No. D-NOA-E86003-00, Snapper Grouper Fishery, Amendment 13C to the Fishery Management Plan, Phase Out Overfishing of Snowy Grouper, Golden Tilefish, Vermilion Snapper and Sea Bass, Implementation, South Atlantic Region.

Summary: While EPA had no objection to the proposed action, EPA did request clarification of EJ demographics of fishermen. Rating LO.

EIS No. 20050438, ERP No. D-COE-E11058-SC, Charleston Naval Complex (CNC), Proposed Construction of a Marine Container Terminal, Cooper River in Charleston Harbor, City of North Charleston, Charleston County, SC.

Summary: EPA expressed environmental concerns about impacts to aquatic resources, water quality and air quality. EPA also requested additional information regarding the potential impacts. Rating EC2.

EIS No. 20050450, ERP No. D-SFW-F64006-IL, Crab Orchard National Wildlife Refuge Comprehensive Conservation Plan (CCP), Implementation, Williamson, Jackson and Unicon Counties, IL.

Summary: While EPA had no objections to the proposed action, EPA did request clarification on partnerships to reduce water pollution and additional surveys covering area-sensitive forest birds and grassland and shrubland birds. Rating LO.

EIS No. 20050484, ERP No. D-COE-K36143-CA, American River Watershed, Lower American River Common Features Mayhew Levee Project, Reconstruction, Sacramento County, CA.

Summary: EPA expressed concerns that several alternatives would convert the American River Parkway to levee and maintenance roads and would impact oak woodland habitat. EPA recommended the selection of either Alternative 4 or 5 to reduce impacts to riparian vegetation and requested additional information regarding cumulative impacts to air and water quality in the area. Rating EC2.

EIS No. 20050507, ERP No. D-BLM-K65293-NV, Sheep Complex, Big Springs and Owyhee Grazing Allotments Sensitive Bird Species Project, Determine Impacts of Livestock Grazing, Elko County, NV.

Summary: EPA expressed environmental concerns with the potential for continued impacts to vegetation, cultural resources, wildlife habitat and sensitive species under the proposed level of grazing. The Final EIS should include additional information on mitigation measures. Rating EC2.

EIS No. 20050539, ERP No. D-GSA-K61163-CA, Andrade Port of Entry (POE) Improvements Project, Proposed Expansion, Renovation , or Replacement of POE, Andrade, CA.

Summary: EPA had concerns about cumulative impacts to air quality, water quality, biological resources and cultural resources. Rating EC2.

EIS No. 20050413, ERP No. DS-FHW-E40339-NC, NC 12 Replacement of Herbert C. Bonner Bridge (Bridge No. 11 ) New and Updated Information, over Oregon Inlet Construction, Funding, U.S. Coast Guard Permit, Special-Use-Permit, Right-of-Way Permit, US Army COE Section 10 and 404 Permit, Dare County, NC.

Summary: EPA has environmental objections to proposed project alternatives that would continue to bisect the Pea Island National Wildlife Refuge (PINWR) and likely result in long-term impacts to water quality as well as disturbances to essential habitat for migratory water fowl and resident wildlife. Pamlico Sound bridge alternatives (PSBC), however, would traverse open water and result in less adverse environmental impacts by bypassing the PINWR and most sensitive aquatic habitats. Rating EO2.

Final EISs

EIS No. 20050313, ERP No. F-DOE-J39033-UT, Moab Uranium Mill Trailings Remediation, Proposal to Clean Up Surface Contamination and Implement a Ground Water Strategy, Grand and San Juan Counties, UT.

Summary: EPA's earlier concerns were addressed in the Final EIS; therefore, EPA does not object to the proposed action.

EIS No. 20050506, ERP No. F-NOA-L91026-00, Pacific Coast Groundfish Fishery Management Plan, To Conserve and Enhance Essential Fish Habitat (EFH) Designation and Minimization of Advise Impacts, Coast Exclusive Economic Zone, WA, OR and CA.

Summary: EPA supports the preferred alternatives for designating EFH, minimizing fishing impacts to EFH and research and monitoring. However, EPA still has concerns that not all oil production platforms are designated as Habitat Areas of Particular Concern.

EIS No. 20050517, ERP No. F-FHW-D40325-PA, US-219 Improvements Project, Meyersdale to Somerset, SR 6219, Section 020, Funding, U.S. Army COE Section 404 Permit, Somerset County, PA.

Summary: EPA has no objections to the proposed project.

EIS No. 20050509, ERP No. FB-COE-E36167-FL, Central and Southern Florida Project, Tamiami Trail Modifications, Modified Water Deliveries to Everglades National Park, Authorized Flow of Water from WCA-38 and the L-29 Canal North of the Tamiami Trail, Dade County, FL.

Summary: While EPA has no objections to the proposed action, EPA did recommend an adaptive management approach to take advantage of information gained from concurrent/future water quality monitoring and wetland functions analysis.

Dated: January 31, 2006.
Ken Mittelholtz,
Environmental Protection Specialist, Office of Federal Activities.

[FR Doc. E6-1502 Filed 2-2-06; 8:45 am]

BILLING CODE 6560-50-P